DEPARTMENT OF TRANSPORTATION

Office of the Secretary

Notice of Applications for Certificates of Public Convenience and Necessity and Foreign Air Carrier Permits Filed Under Subpart Q During the Week Ending September 15, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1995-546.

Date Filed: September 13, 2000.

Due Date for Answers, Conforming Applications, or Motion to Modify Scope: October 4, 2000.

Description: Application of Bahamasair Holdings Limited (“Bahamasair”) pursuant to 49 U.S.C. Section 41302 and Subpart B, further amends the carrier's pending application for renewal and amendment of its foreign air carrier permit so that it may provide foreign air transportation of persons, property, and mail between a point or points in The Bahamas and the coterminal points: (1) Atlanta, Georgia; (2) Boston, Massachusetts; (3) Charlotte, North Carolina; (4) Chicago, Illinois; (5) Detroit, Michigan; (6) Fort Lauderdale, Florida; (7) Miami, Florida; (8) New Orleans, Louisiana; (9) Newark, New Jersey; (10) New York, New York (LaGuardia); (11) Orlando, Florida; (12) Palm Beach, Florida; (13) Philadelphia, Pennsylvania; (14) Tampa, Florida; and (15) Washington, D.C. (Dulles).

Docket Number: OST-2000-7923.

Date Filed: September 13, 2000.

Due Date for Answers, Conforming Applications, or Motion to Modify Scope: October 4, 2000.

Description: Application of Delta Air Lines, Inc. (“Delta”), pursuant to Sections 41102 and 41108 and Subpart B, applies for a certificate of public convenience and necessity, authorizing Delta to provide scheduled foreign air transportation of persons, property and mail between Boston, Massachusetts, and London, England. Delta requests that the certificate issued by the Department include a route integration condition that authorizes Delta to combine service on this route with all other Delta services authorized by existing certificates and exemptions granted by the Department, to the extent permitted by applicable international agreements.

Dorothy Y. Beard,
Federal Register Liaison.

[FR Doc. 00-28253 Filed 11-02-00; 8:45 am]

BILLING CODE 4910-62-P